DEPARTMENT OF TRANSPORTATION

Pipeline and Hazardous Materials Safety Administration

[Docket ID PHMSA-2008-0292]

Pipeline Safety: Technical Assistance Grants to Communities

AGENCY: Pipeline and Hazardous Materials Safety Administration (PHMSA), DOT.

ACTION: Notice of Technical Assistance Grant Criteria.

SUMMARY: PHMSA has established the criteria and competitive procedures that will be used in awarding grants under the Technical Assistance Grants (TAG) program authorized in 49 U.S.C. 60130 and section 2(e) of the Pipeline Inspection, Protection, Enforcement, and Safety Act of 2006. Subject to future appropriations, the TAG program will provide grants to local governments and community groups for engineering and other technical assistance related to pipeline safety matters. This Notice also details PHMSA's plans for awarding the three demonstration grants authorized under the TAG program.

FOR FURTHER INFORMATION CONTACT: Steven Fischer by e-mail at steve.fischer@dot.gov.

SUPPLEMENTARY INFORMATION:

I. Background

Experience shows that informed communities play a vital role in the safety and reliability of pipeline operations. Accurate information about the location, operation, and regulation of pipelines facilitates safe land use planning, effective damage prevention programs, and fast, safe, and capable emergency response. To those ends, PHMSA has actively developed and strengthened programs to improve the flow of pipeline safety information to communities. Over the past several years, PHMSA has established its Stakeholder Communications website; staffed a Community Assistance & Technical Services Program within the Office of Pipeline Safety; offered web-casting of Pipeline Safety Trust meetings; funded invitational travel for state and local officials to participate in various planning and review committees; invited public representatives to our Pipeline Safety Advisory Committees; made transmission pipeline location information available through the National Pipeline Mapping System; and strengthened standards for pipeline operator public awareness programs. Most recently, in January 2008, PHMSA launched the Pipeline and Informed Planning Alliance to facilitate risk-informed land use and community planning.

The Technical Assistance Grants (TAG) program, first authorized in the Pipeline Safety Improvement Act of 2002 (Pub. L. 107-355, codified at 49 U.S.C. 60130), offers new opportunities to strengthen the depth and quality of public participation in pipeline safety matters. Section 9 of the Act, titled: “Pipeline Safety Information Grants to Communities” authorized the Secretary of Transportation to make grants to local communities and organizations for technical assistance relating to pipeline safety issues. The grants would allow communities and groups of individuals (not including for-profit entities) to obtain funding for technical assistance in the form of engineering or other scientific analysis of pipeline safety issues and help promote public participation in official proceedings. For purposes of grants eligibility, communities are defined as cities, towns, villages, counties, parishes, townships, and similar governmental subdivisions, or consortiums of such subdivisions. A nongovernmental group of individuals is eligible for a grant under the TAG program if its members are affected or potentially affected individuals who are, or are willing to become, incorporated as a non-profit organization in the state where they are located. By law, the amount of any grant may not exceed $50,000 for a single grant recipient and the funds authorized for these grants may not be derived from user fees collected under 49 U.S.C. 60301. Although the 2002 Act authorized $1,000,000 for grant awards under the TAG program, to date, no funds have been appropriated for this purpose.

II. Competitive Procedures for Awarding Technical Assistance Grants

Beginning in 2005, PHMSA has used the Federal government-wide, web-based system Grants.gov for posting and processing all new grants programs. Grants.gov was established as a governmental resource under the E-Grants Initiative, part of the President's 2002 Fiscal Year Management Agenda to improve government services to the public. The system operates as a central storehouse for the timely and accurate exchange of information and processing of applications for Federal grant programs. Organizations and individuals who may be interested in applying for grants may register on the Grants.gov Web site to receive e-mail notification of grant postings.

Subject to appropriations, PHMSA will post notice on Grants.gov of the application deadline and selection criteria for TAG program grants. The selection criteria will be those established in this Notice, as set forth below.

PHMSA plans to use a committee of stakeholder representatives to assist in reviewing and evaluating applications under the TAG selection criteria. We have used similar multi-stakeholder committees to assist in reviewing and recommending awards for both Research and Development and State Damage Prevention Program grants. As with these grants, PHMSA will publish on our website the names of the individuals and organizations comprising the review committee and will identify the applicants selected and the amount of each grant award.

III. TAG Criteria

In keeping with Congressional intent, PHMSA has developed TAG evaluation criteria to be used to rate and select competing proposals. Together, these criteria are intended to identify projects that target high-risk areas; offer well-defined plans; foster open communication with a local community and/or affected pipeline operators; and produce results that are measurable and transferable to other communities and/or technology development.

The evaluation criteria are as follows:

1. The extent to which the Applicant's project scope is focused on areas where a pipeline failure could pose a significant risk to people or to unusually sensitive environmental areas;

2. The extent to which the proposed project scope demonstrates an understanding of the specific concern the Applicant wishes to address, as well as the range of risks affected pipelines pose to the affected geographic area and the risks the community poses to the pipelines;

3. The extent to which the proposal demonstrates the Applicant's experience with and commitment to open communication with affected operators and to partnerships with other key members of the community;

4. The extent to which the Applicant's project is designed to improve performance and safety over time in areas such as engineering, damage prevention, land use, public education, emergency response, and community awareness;

5. The extent to which the Applicant's project plan establishes clear goals, objectives, milestones, and estimates of project costs;

6. The extent to which the Applicant has a plan for evaluating and disseminating results; and

7. The extent to which the Applicant's project scope provides the potential for learning or technology transfer to other groups and communities.

IV. Demonstration Grants—Three Pilots

Section 5 of the PIPES Act requires the first three Technical Assistance Grants to be demonstration grants in amounts not exceeding $25,000 each. These demonstration grants will be funded out of general funds and will target a specific community information project—the Pipelines and Informed Planning Alliance (PIPA), as referenced above. The PIPA project has brought together a wide range of pipeline safety and local planning interests for the purpose of developing risk-informed best practices for land use and community planning. The PIPA project groups have been working on the development of draft best practices for roughly ten months and are scheduled to report their conclusions in early 2009. More information on PIPA can be found on PHMSA's Web site at http://primis.phmsa.dot.gov/comm/PIPA.htm?nocache=458.

The PIPA project offers an excellent opportunity to pilot test the TAG program in the context of an ongoing, previously-authorized community information project. PHMSA is working closely with the PIPA Steering Committee to identify communities interested in participating in the demonstration grants phase of the TAG program. The Steering Committee has endorsed the concept of asking the pilot communities to test draft recommended practices currently being developed by the PIPES task teams. We believe this is a valuable opportunity to advance both the TAG program and the PIPA project. However, although we anticipate awarding the three $25,000 grants designated for demonstration projects under PIPES Act section 5, we expect this amount to cover only a portion of the draft PIPA recommended practices.

In keeping with the demonstration project scope, PHMSA intends to streamline the rating process. Because we are limiting the demonstration grants to a specific community information project, we will not use the grants.gov system for applications or the full range of TAG evaluation criteria discussed above in selecting the three demonstration grant recipients. Instead, PHMSA, in consultation with the PIPA Steering Committee, will select the three pilot communities based on the Applicant's interest in pilot testing draft PIPA best practices. PHMSA and the PIPA Steering Committee will identify communities interested in focusing on PIPA related topics that are reflective of the scope and intent of the TAG criteria.

Each demonstration grant recipient will be required to provide a report to PHMSA demonstrating completion of the work as outlined in the grant agreement. Further, each recipient of a grant under section 5 must ensure that:

1. The technical findings made possible by the grants are made available to the relevant operators; and

2. Open communication is maintained between the grant recipients, local operators, local communities and other interested parties.

In reapportion for the demonstration projects, PHMSA and the PIPA Steering Committee have identified several potential projects and topics we may ask communities to investigate, including: Performing an annual review with pipeline operators having facilities within the community; mapping pipelines, abandoned pipelines and Consultation Zones in a geographic information system (GIS); drafting a model ordinance and reviewing one or more of the proposed PIPA best practices for legal issues associated with incorporating the best practices into law; developing educational material for local governments to distribute to developers, landowners and operators about Consultation Zones; or performing Consultation Zone discussions for several developments now being planned that are in close proximity to a transmission pipeline.

Issued in Washington, DC, on October 29, 2008.
Jeffrey D. Wiese,
Associate Administrator for Pipeline Safety.

[FR Doc. E8-26506 Filed 11-5-08; 8:45 am]

BILLING CODE 4910-60-P